DEPARTMENT OF DEFENSE

Office of the Secretary

[Docket ID: DoD-2009-HA-0137]

Proposed Collection; Comment Request

AGENCY: Office of the Assistant Secretary of Defense for Health Affairs, DoD.

ACTION: Notice.

In compliance with Section 3506(c)(2)(A) of the Paperwork Reduction Act of 1995, the Office of the Assistant Secretary of Defense for Health Affairs announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 23, 2009.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Institute for Public Health Research, University of Connecticut Health Center, ATTN: [Robert Aseltine, Jr. PhD], 99 Ash St., East Hartford, CT 06108.

Title; Associated Form; and OMB Number: An Outcome Evaluation of the SOS Suicide Prevention Program; OMB Control Number 0720-TBD.

Needs and Uses: The information collection requirement is necessary to evaluate the effectiveness of the SOS Suicide Prevention Program which is used as suicide prevention programming in middle and high schools throughout the country. The surveys are completed in school and then returned to the University of Connecticut's Institute for Public Health Research for analysis.

Affected Public: Middle and high school students in state schools.

Annual Burden Hours: 840.

Number of Respondents: 840.

Responses per Respondent: 2.

Average Burden per Response: 30 minutes.

Frequency: Once.

SUPPLEMENTARY INFORMATION:

Summary of Information Collection

Respondents are middle and high school students who are receiving the SOS Suicide Prevention Program in their schools. The SOS Program is a video-based educational program used by middle and high schools throughout the country in order to educate students about the signs and symptoms of depression and suicidality. An Outcome Evaluation of the SOS Suicide Prevention Program will assess the degree to which the SOS program fosters greater knowledge of and more adaptive attitudes toward depression and suicide, increases rates of help-seeking, and reduces rates of suicidal ideation and suicide attempts.

This program evaluation will survey middle and high school students in grades 6-12 in schools that administer the SOS program. All schools will be located near military bases and have high proportions of students with parents or caretakers in the military. Surveys will be administered to students at two points in time, once before receipt of the SOS program and once about 3 months after receipt of the program. A screening form is also included as a part of the program. The goal is to have approximately 840 civilian students in up to 25 schools. This evaluation will allow school officials to make evidence based decisions regarding programming in their schools. Without this evaluation we risk delivering ineffective programming to students.

Dated: August 21, 2009.
Patricia L. Toppings,
OSD Federal Register Liaison Officer, Department of Defense.

[FR Doc. E9-22787 Filed 9-21-09; 8:45 am]

BILLING CODE 5001-06-P